DEPARTMENT OF LABOR

Employment and Training Administration

[TA-W-52,617]

Wee Socks, An Affiliate of Prewett Associated Mills, Fort Payne, AL; Notice of Termination of Investigation

Pursuant to section 221 of the Trade Act of 1974, an investigation was initiated on August 19, 2003 in response to a petition filed by a company official on behalf of workers at Wee Socks, an affiliate of Prewett Associated Mills, Fort Payne, Alabama.

The petitioner has requested that the petition be withdrawn. Consequently, further investigation in this case would serve no purpose, and the investigation has been terminated.

Signed in Washington, DC this 27th day of August, 2003.
Linda G. Poole,
Certifying Officer, Division of Trade Adjustment Assistance.

[FR Doc. 03-24710 Filed 9-29-03; 8:45 am]

BILLING CODE 4510-30-P